DEPARTMENT OF ENERGY

Federal Energy Regulatory Commission

Combined Notice of Filings, #1

October 23, 2008.

Take notice that the Commission received the following electric corporate filings:

Docket Numbers: EC09-10-000.

Applicants: Noble Great Plains Windpark, LLC, Bankers Commercial Corporation.

Description: Application of Noble Great Plains Windpark, LLC, et al. for Section 203 Authorization of Transaction, and Request for Waivers of Filing Requirements, Confidential Treatment of Transaction Documents, and Expedited Consideration.

Filed Date: 10/22/2008.

Accession Number: 20081022-5046.

Comment Date: 5 p.m. Eastern Time on Wednesday, November 12, 2008.

Take notice that the Commission received the following electric rate filings:

Docket Numbers: ER08-387-008; ER07-254-011; ER08-912-004; ER08-933-005; ER07-195-011; ER08-934-006; ER07-1378-010.

Applicants: Atlantic Renewables Projects II LLC, Cassleman Windpower LLC, IBERDROLA RENEWABLES, Inc., Lempster Wind, LLC, Locust Ridge Wind Farm LLC, Locust Ridge II, LLC, Providence Heights Wind, LLC.

Description: Iberdrola Renewables Northeast Sellers (Atlantic Renewables Projects II LLC et al.) submits revised tariff sheets to their respective market-based rate tariffs to reflect that they have become Category 2 Sellers.

Filed Date: 10/21/2008.

Accession Number: 20081023-0114.

Comment Date: 5 p.m. Eastern Time on Wednesday, November 12, 2008.

Docket Numbers: ER08-1509-002.

Applicants: Burgess Capital LLC.

Description: Burgess Capital LLC submits Amended Petition for Acceptance of Initial Tariff, Waivers and Blanket Authority.

Filed Date: 10/22/2008.

Accession Number: 20081023-0109.

Comment Date: 5 p.m. Eastern Time on Wednesday, November 12, 2008.

Docket Numbers: ER09-104-000.

Applicants: Wheelabrator Bridgeport, L.P.

Description: Petition of Wheelabrator Bridgeport, LP for order accepting market-based rate tariff for filing and granting waivers and blanket approvals.

Filed Date: 10/21/2008.

Accession Number: 20081023-0131.

Comment Date: 5 p.m. Eastern Time on Wednesday, November 12, 2008.

Docket Numbers: ER09-109-000.

Applicants: Scotia Capital Energy Inc.

Description: Scotia Capital Energy Inc's petition for an expedited order accepting market-based rate tariff and granting of waivers and blanket approvals.

Filed Date: 10/22/2008.

Accession Number: 20081023-0315.

Comment Date: 5 p.m. Eastern Time on Wednesday, November 12, 2008.

Docket Numbers: ER09-110-000.

Applicants: Virginia Electric and Power Company.

Description: Virginia Electric and Power Company submits Revised Wholesale Distribution Service Agreement with Southeastern Public Service Authority et al.

Filed Date: 10/22/2008.

Accession Number: 20081023-0106.

Comment Date: 5 p.m. Eastern Time on Wednesday, November 12, 2008.

Docket Numbers: ER09-111-000.

Applicants: IBERDROLA RENEWABLES, Inc.

Description: Iberdrola Renewables, Inc submits Notice of Termination to cancel PPM Energy, Inc's Rate Schedule FERC 3, effective 10/1/07.

Filed Date: 10/22/2008.

Accession Number: 20081023-0103.

Comment Date: 5 p.m. Eastern Time on Wednesday, November 12, 2008.

Docket Numbers: ER09-113-000.

Applicants: Midwest Independent Transmission System Operator, Inc.

Description: Midwest Independent Transmission System Operator, Inc. submits Facilities Construction Agreement with Wisconsin Power and Light Company.

Filed Date: 10/22/2008.

Accession Number: 20081023-0105.

Comment Date: 5 p.m. Eastern Time on Wednesday, November 12, 2008.

Docket Numbers: ER09-115-000.

Applicants: PJM Interconnection, LLC.

Description: PJM Interconnection, LLC submits an executed Wholesale Market Participation Agreement for Highland New Wind Development, LLC et al.

Filed Date: 10/22/2008.

Accession Number: 20081023-0102.

Comment Date: 5 p.m. Eastern Time on Wednesday, November 12, 2008.

Take notice that the Commission received the following PURPA 210(m)(3) filings:

Docket Numbers: QM09-2-000.

Applicants: Montana-Dakota Utilities Co.

Description: Application of Montana-Dakota Utilities Co for authorization to terminate the mandatory obligation to purchase power from qualified facilities over twenty megawatts on a service territory-wide basis.

Filed Date: 10/22/2008.

Accession Number: 20081023-0121.

Comment Date: 5 p.m. Eastern Time on Wednesday, November 19, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. E8-25786 Filed 10-28-08; 8:45 am]

BILLING CODE 6717-01-P